DEPARTMENT OF TRANSPORTATION

Bureau of Transportation Statistics

[Docket Number OST-2023-0115]

Agency Information Collection Activity; Notice of Request for Approval To Collect New Information: Safe Maritime Transportation System (SafeMTS)—Voluntary Near-Miss Incident Reporting and Analysis System

AGENCY: Bureau of Transportation Statistics (BTS), Office of the Assistant Secretary for Research and Technology (OST-R), U.S. Department of Transportation.

ACTION: Notice and request for comments.

SUMMARY: In accordance with the requirements of section 3506(c)(2)(A) of Title 44 of the U.S. Code (Paperwork Reduction Act of 1995), this notice announces the intention of BTS to request the Office of Management and Budget (OMB) to approve a new data collection: SafeMTS—Voluntary Near-Miss Reporting and Analysis System.

DATES: Written comments should be submitted by October 10, 2023.

ADDRESSES: To ensure that your comments are not entered more than once into the docket, submit comments by only one of the following methods:

• Federal eRulemaking Portal: Go to https://www.regulations.gov and follow the instructions for sending your comments electronically. Docket Number: OST-2023-0115.

• Mail: Docket Services, U.S. Department of Transportation, 1200 New Jersey Avenue SE, West Building, Ground Floor, Room W12-140, Washington, DC 20590-0001.

• Hand Delivery: Deliver to mail address above between 9 a.m. and 5 p.m. EST, Monday through Friday, except Federal holidays.

Instructions: All submissions must include the Agency name and docket number. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Allison Fischman, Office of Safety Data and Analysis, Bureau of Transportation Statistics, Office of the Assistant Secretary for Research and Technology, U.S. Department of Transportation, RTS-35, 1200 New Jersey Avenue SE, Washington, DC 20590-0001, allison.fischman@dot.gov, (202)-748-0546.

SUPPLEMENTARY INFORMATION:

In August 2022, the Maritime Administration's (MARAD) Office of Safety and BTS signed an Interagency Agreement (IAA) to develop and implement SafeMTS, a voluntary program for confidential reporting of `near-misses' occurring on vessels within the Maritime Transportation System (MTS). The SafeMTS program provides a trusted, proactive means for the maritime industry to report sensitive and proprietary safety information, and to identify early warnings of safety problems and potential safety issues by uncovering hidden, at-risk conditions not previously exposed from analysis of reportable accidents and incidents. Companies participating in SafeMTS are voluntarily submitting safety data. There is no regulatory requirement to submit such data.

The scope of SafeMTS includes a broad range of data categories to promote safe operations and appropriate risk management, which adds a learning component to assist the maritime industry in achieving improved safety performance. BTS will be the repository for the data and will analyze and aggregate information proffered under this program. BTS will publish aggregated analyses providing information on potential causal factors and trends or patterns before safety is compromised and affording continuous improvement opportunities by focusing on repairing impediments to safety. This information collection is necessary to aid MARAD, the maritime industry, and other stakeholders in identifying safety trends and causes of near-miss incidents.

Title: SafeMTS—Near-Miss Reporting and Analysis Program for the Maritime Transportation System.

OMB Control Number: Not yet known.

Type of Request: New collection.

Affected Public: Businesses in the maritime industry that involve ownership or operation of vessels.

Number of Potential Responses: One hundred, submitted on a quarterly basis.

Estimated Total Annual Burden: 400 hours.

Abstract: The Confidential Information Protection and Statistical Efficiency Act of 2002 (CIPSEA) (44 U.S.C. 3501 note), can provide strong confidentiality protection for information acquired for statistical purposes under a pledge of confidentiality. CIPSEA guidance from the Office of Management and Budget advises that a non-statistical agency or unit (MARAD) that wishes to acquire information with CIPSEA protection may consider entering into an agreement with a Federal statistical agency or unit (BTS). BTS and MARAD have determined that it is in the public interest to collect and process near-miss incident related data under a pledge of confidentiality for statistical purposes only.

Working with subject matter experts, BTS will then aggregate and further analyze these reports to identify potential causal factors and trends. All data reviewers would be subject to nondisclosure requirements mandated by CIPSEA. The results of these aggregated analyses will be distributed by BTS through publications, meetings, and other forms. Periodic industry meetings may be scheduled by MARAD or industry to discuss the data analysis and trend results, as well as share ideas and process improvements for preventing recurrence.

In August 2022, BTS and MARAD signed an IAA to develop and implement SafeMTS, a voluntary program for confidential reporting of `near-misses' occurring on vessels. The goal of the voluntary near-miss reporting system is to provide BTS with essential information about accident precursors and other hazards. Under the program, BTS will develop and publish aggregate analyses that the industry and all MTS stakeholders can use—in conjunction with incident reports and other sources of information—to reduce safety and environmental risks and continue building a more robust safety culture within the maritime industry.

BTS, within the U.S. Department of Transportation (U.S. DOT), is an objective supplier of statistically sound baseline, contextual, and trend information used to shape transportation policy and investment decisions across the United States. BTS is responsible for providing timely, accurate, and reliable information on U.S. passenger and freight transportation systems and the impact on the economy, society, and the environment. Further, BTS has experience developing and administering near-miss safety data collection programs for transportation and offshore energy sectors. As a federal statistical agency, BTS has the authority to collect data confidentially for statistical purposes under CIPSEA, which allows the program to overcome legal concerns among companies about sharing sensitive near-miss and safety data.

There is currently no reporting regime in place for maritime industry near-miss or safety incidents and other non-casualty/reportable safety matters. Marine casualties and many other incidents are reportable via separate regulations under either OSHA (Occupational Safety and Health Administration) or USCG (U.S. Coast Guard) jurisdiction. However, near-miss reporting is not required under current regulations, and no industrywide database of near-miss events exists for the maritime industry. A consolidated database of near-miss incident data would allow for analysis and dissemination of key findings to the industry for use in advancing maritime transportation safety.

The SafeMTS program, established by MARAD and BTS as a joint program, aims to fill this gap by establishing a confidential safety data system to collect and analyze voluntarily reported, safety-related data from the maritime industry to advance marine transportation safety. A broad set of existing data will be captured from industry partners and analyzed to identify critical safety-related trends that could prevent incidents or identify otherwise non-correlated events. With a broad set of data that includes protection from discovery as mandated by industry and robust data analytics, potential hazards of maritime operations can be identified and shared across the industry so corrective actions can be taken to improve safety. The benefit of data analytics in this area has been discussed in numerous studies, National Academies publications, reports, and articles for over two decades. This program will provide MARAD, in partnership with industry, with the ability to identify critical safety issues and concerns and leverage this information to advance maritime safety.

Respondents who report near-miss incidents will be asked to submit their data and pertinent supplemental information. Respondents will submit the report electronically to BTS. Respondents will be asked to provide information such as: time and location of the event; a short description of the event and operating conditions that existed at the time of the event; contributing factors to the event; results of an investigation or safety analysis report; any corrective actions taken as a result of the event; and any other information that might be useful in determining ways to prevents such events from occurring.

Data Confidentiality Provisions: The confidentiality of near miss and safety event information submitted to BTS is protected under the BTS confidentiality statute (49 U.S.C. 6307) and the Confidential Information Protection and Statistical Efficiency Act (CIPSEA) of 2018 (Pub. L. 115-435, Title III of the Foundations for Evidence-Based Policymaking Act of 2018). In accordance with these confidentiality statutes, only aggregated and non-identifying data will be made publicly available by BTS through its reports for statistical purposes only. BTS will not release to information that might reveal the identity of individuals or organizations mentioned in event notices or reports without explicit consent of the respondent and any other affected entities.

Public Comments Invited: You are asked to comment on any aspect of this information collection, including: (1) whether the proposed collection is necessary for the performance of BTS's functions; (2) the accuracy of the estimated burden; (3) ways for BTS to enhance the quality, usefulness, and clarity of the collected information; and (4) ways that the burden could be minimized without reducing the quality of the collected information. Comments received after the comment closing date will be included in the docket and will be considered to the extent practicable.

Allison Fischman,
Acting Office Director.

[FR Doc. 2023-16865 Filed 8-7-23; 8:45 am]

BILLING CODE 4910-9X-P